DEPARTMENT OF ENERGY

[GDO Docket No. EA-511]

Application for Authorization To Export Electric Energy; ATNV Energy, LP

AGENCY: Grid Deployment Office, Department of Energy.

ACTION: Notice of application.

SUMMARY: ATNV Energy, LP (the Applicant) has applied for authorization to transmit electric energy from the United States to Canada pursuant to the Federal Power Act.

DATES: Comments, protests, or motions to intervene must be submitted on or before July 5, 2024.

ADDRESSES: Comments, protests, motions to intervene, or requests for more information should be addressed by electronic mail to Electricity.Exports@hq.doe.gov.

FOR FURTHER INFORMATION CONTACT: Janessa Zucchetto, (240) 474-8226, Electricity.Exports@hq.doe.gov.

SUPPLEMENTARY INFORMATION: The United States Department of Energy (DOE) regulates electricity exports from the United States to foreign countries in accordance with section 202(e) of the Federal Power Act (FPA) (16 U.S.C. 824a(e)) and regulations thereunder (10 CFR 205.300 et seq.). Sections 301(b) and 402(f) of the DOE Organization Act (42 U.S.C. 7151(b) and 7172(f)) transferred this regulatory authority, previously exercised by the now-defunct Federal Power Commission, to DOE.

Section 202(e) of the FPA provides that an entity which seeks to export electricity must obtain an order from DOE authorizing that export (16 U.S.C. 824a(e)). On April 10, 2023, the authority to issue such orders was delegated to the DOE's Grid Deployment Office (GDO) under Delegation Order No. S1-DEL-S3-2023 and Redelegation Order No. S3-DEL-GD1-2023.

On April 11, 2024, ATNV Energy, LP filed an application (Application or App.) with DOE to transmit electric energy from the United States to Canada for a five-year term. App. at 1.

According to the Application, ATNV Energy, LP is “a Delaware limited partnership with its principal place of business in Houston, Texas.” Id. ATNV Energy, LP states it is a “power marketer that does not own or operate a transmission system[,]” and its owners do not own or control an interest in any electric generation, transmission, or distribution facilities. Id. at 1, 4. The Applicant represents that it is “authorized to sell wholesale energy, capacity, and ancillary services at market-based rates” and is subject to the Federal Energy Regulatory Commission's jurisdiction. Id. at 2.

ATNV Energy, LP states it “will purchase the electric power to be exported in the markets in which it participates, on a firm or interruptible basis,” and “[a]ny power purchased by the Applicant for export would be surplus to the needs of those entities selling power to the Applicant.” Id. at 3-4. The Applicant also asserts its exports will comply with all North American Electric Reliability Corporation requirements and exports limits imposed by DOE. Id. at 4. For these reasons, the Applicant contends that its exports “will not impair or tend to impede the sufficiency of electric supply in the United States or the regional coordination of electric utility planning or operations.” Id. at 5.

The existing international transmission facilities to be utilized by the Applicant have been previously authorized by Presidential permits issued pursuant to Executive Order 10485, as amended, and are appropriate for open access transmission by third parties. See App. at Attachment 1.

Procedural Matters: Any person desiring to be heard in this proceeding should file a comment or protest to the Application at the email address provided previously. Protests should be filed in accordance with Rule 211 of FERC's Rules of Practice and Procedure (18 CFR 385.211). Any person desiring to become a party to this proceeding should file a motion to intervene at the previously provided email address in accordance with FERC Rule 214 (18 CFR 385.214).

Comments and other filings concerning ATNV Energy, LP's Application should be clearly marked with GDO Docket No. EA-511. Additional copies are to be provided directly to Kolby Kettler, ATNV Energy, LP, 1321 Upland Dr., Ste. 2100, Houston, TX 77043, kolby@atnvenergy.com; Sarah Tucker, Sidley Austin LLP, 1501 K Street NW, Washington, DC 20005, stucker@sidley.com; and Keturah Brown, Sidley Austin LLP, 1501 K Street NW, Washington, DC 20005, keturah.brown@sidley.com.

A final decision will be made on the requested authorization after the environmental impacts have been evaluated pursuant to DOE's National Environmental Policy Act Implementing Procedures (10 CFR part 1021) and after DOE evaluates whether the proposed action will have an adverse impact on the sufficiency of supply or reliability of the United States electric power supply system.

Copies of this Application will be made available, upon request, by accessing the program website at https://www.energy.gov/gdo/pending-applications-0 or by emailing Electricity.Exports@hq.doe.gov.

Signing Authority: This document of the Department of Energy was signed on May 29, 2024, by Maria Robinson, Director, Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on May 30, 2024.
Treena V. Garrett,
Federal Register Liaison Officer, U.S. Department of Energy.

[FR Doc. 2024-12188 Filed 6-3-24; 8:45 am]

BILLING CODE 6450-01-P